DEPARTMENT OF LABOR

Employment and Training Administration

[TA-W-71,195]

Timken—Bucyrus Operations, Bucyrus, OH; Notice of Termination of Investigation

Pursuant to Section 223 of the Trade Act of 1974, as amended, an investigation was initiated in response to a petition filed on June 12, 2009 by a company official on behalf of workers of Timken—Bucyrus Operations, Bucyrus, Ohio.

The petitioner has requested that the petition be withdrawn. Accordingly, the investigation has been terminated.

Signed at Washington, DC this 17th day of August 2009.
Elliott S. Kushner,
Certifying Officer, Division of Trade Adjustment Assistance.

[FR Doc. E9-29171 Filed 12-7-09; 8:45 am]

BILLING CODE 4510-FN-P